DEPARTMENT OF LABOR

Employment and Training Administration

[TA-W-63,130]

Sea Gull Lighting Products, Riverside, NJ; Notice of Revised Determination on Reconsideration

On September 5, 2008, the Department issued an Affirmative Determination Regarding Application on Reconsideration applicable to workers and former workers of the subject firm. The notice was published in the Federal Register on September 18, 2008 (73 FR 54171).

The previous investigation initiated on April 4, 2008, and resulted in a negative determination issued on July 28, 2008, was based on the finding that imports of residential lighting fixtures did not contribute importantly to worker separations at the subject firm and no shift in production to a foreign source occurred. The denial notice was published in the Federal Register on August 12, 2008 (73 FR 46924).

In the request for reconsideration, the petitioner provided additional information regarding the subject firm's domestic production of residential lighting fixtures and imports of these products by the subject firm into the United States.

The Department contacted the company official to verify whether the subject firm imported residential lighting fixtures in 2006, 2007 and January through March 2008. The investigation on reconsideration revealed that the subject firm increased their reliance on imported residential lighting fixtures during the relevant period. It was also revealed that employment and sales of residential lighting fixtures declined at Sea Gull Lighting Products LLC, Riverside, New Jersey during the relevant period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that increased reliance on imports of residential lighting fixtures, produced by Sea Gull Lighting Products, LLC, Riverside, New Jersey contributed importantly to the total or partial separation of workers and to the decline in sales or production at that firm or subdivision. In accordance with the provisions of the Act, I make the following certification:

”All workers of Sea Gull Lighting Products LLC, Riverside, New Jersey, who became totally or partially separated from employment on or after April 3, 2007, through two years from the date of this certification, are eligible to apply for adjustment assistance under Section 223 of the Trade Act of 1974, and are eligible to apply for alternative trade adjustment assistance under Section 246 of the Trade Act of 1974.”

Signed in Washington, DC this 6th day of October 2008.
Elliott S. Kushner,
Certifying Officer, Division of Trade Adjustment Assistance.

[FR Doc. E8-24862 Filed 10-17-08; 8:45 am]

BILLING CODE 4510-FN-P